DEPARTMENT OF ENERGY

Federal Energy Regulatory Commission

[Docket No. ER06-615-000]

California Independent System; Operator Corporation; Notice of FERC Staff Attendance

October 22, 2007.

The Federal Energy Regulatory Commission (Commission) hereby gives notice that on October 25-26, 2007, members of its staff will attend the meeting of Western Electricity Coordinating Council (WECC) Market Interface Committee in Vancouver, BC. The agenda and other documents for the meeting are available on the WECC Web site, http://www.wecc.biz.

Sponsored by the WECC, the meeting is open to all market participants, and staff's attendance is part of the Commission's ongoing outreach efforts. The meetings may discuss matters at issue in the above captioned docket.

For further information, contact Saeed Farrokhpay at saeed.farrokhpay@ferc.gov; (916) 294-0322.

Kimberly D. Bose,
Secretary.

[FR Doc. E7-21225 Filed 10-26-07; 8:45 am]

BILLING CODE 6717-01-P